NUCLEAR REGULATORY COMMISSION

[Docket No. 50-293]

Entergy Nuclear Generation Company (Pilgrim Nuclear Power Station); Exemption

I

Entergy Nuclear Generation Company (Entergy or the licensee) is the owner of the Pilgrim Nuclear Power Station (Pilgrim), and is authorized to possess, use, and operate the facility as reflected in Facility Operating License No. DPR-35. Pilgrim is a boiling-water reactor located at the licensee's site in Plymouth County, on the southeast coast of the State of Massachusetts. The license provides, among other things, that the licensee is subject to all rules, regulations, and orders of the U.S. Nuclear Regulatory Commission (NRC or the Commission) now or hereafter in effect.

II

Section IV.F.2.c of Appendix E to 10 CFR Part 50 requires each licensee at each site to conduct an exercise of offsite emergency plans biennially with full participation by each offsite authority having a role under the plan. During such biennial full-participation exercises, the NRC evaluates onsite and the Federal Emergency Management Agency (FEMA) evaluates offsite emergency preparedness activities. The licensee conducted a biennial full-participation exercise and 6-year ingestion exercise in December 1999. By letter dated July 30, 1999, as supplemented on September 23, 1999, the licensee requested an exemption from Sections IV.F.2.c of Appendix E regarding the conduct of a full-participation exercise in 2001. The requested exemption is to conduct the next biennial full-participation exercise that should occur in 2001, a few months later, tentatively in May 2002. Future full-participation exercises will be scheduled biennially from the year 2002. The NRC has provided flexibility in scheduling these exercises by allowing licensees to schedule full-participation exercises at any time during the biennial calendar year. This provides a 12- to 36-month window to schedule full-participation exercises while still meeting the biennial requirement specified in the regulations. Conducting the Pilgrim full-participation exercise in calendar year 2002 places the exercise past the previously scheduled biennial exercise that had been scheduled for calendar year 2001. However, the interval between biennial exercises would be 29 months, which is within the parameters of the existing general policy and practice.

The Commission, pursuant to 10 CFR 50.12(a)(1), may grant exemptions from the requirements of 10 CFR Part 50 that are authorized by law, will not present an undue risk to public health and safety, and are consistent with the common defense and security. The Commission, however, pursuant to 10 CFR 50.12(a)(2), will not consider granting an exemption unless special circumstances are present. Under 10 CFR 50.12(a)(2)(ii), special circumstances are present when application of the regulation in the particular circumstances would not serve the underlying purpose of the rule or is not necessary to achieve the underlying purpose of the rule. Under 10 CFR 50.12(a)(2)(v), special circumstances are present whenever the exemption would provide only temporary relief from the applicable regulation and the licensee or applicant has made good faith efforts to comply with the regulation.

III

The staff has completed its evaluation of Entergy's request for an exemption and the measures that will be taken to maintain the level of emergency preparedness at Pilgrim between December 1999 and May 2002. By letter dated September 23, 1999, the licensee provided supplemental information in support of the exemption request. The existing training and drill schedule currently in place for emergency response activities will remain in place to ensure the readiness of both onsite and offsite emergency response personnel. For onsite emergency responders, this includes annual classroom training and participation in drills. The licensee will conduct quarterly combined functional and/or activation drills and a self-evaluated annual exercise. These drills and the self-evaluated annual exercise satisfy the drill requirements of 10 CFR Part 50, Appendix E, IV.F.2.b. Offsite agencies in Massachusetts are routinely invited to, and actively participate in, these drills and exercises as a training activity for offsite responders personnel. Local response groups are offered annual training and participation in emergency operations center drills. Representatives of the licensee meet monthly with State and local emergency management and support groups. The rescheduling of the biennial exercise has been discussed in these meetings and greeted with support by both State and local representatives. Rescheduling the exercise to 1 year later allows more freedom in the scheduling of exercises by scheduling the exercise to the years in which the licensee does not have scheduled refueling outages. The staff considers that these measures are adequate to maintain an acceptable level of emergency preparedness during this period, satisfying the underlying purpose of the rule. Therefore, the special circumstances of 10 CFR 50.12(a)(2)(ii) are satisfied.

Only temporary relief from the regulation is provided by the requested exemption since an exercise will be conducted at a future date. The licensee has made a good faith effort to comply with the regulation. The exemption is being sought by the licensee in voluntary response to a request by the NRC to accommodate an adjustment in exercise scheduling that affects multiple agencies. The revised exercise schedule allows for better balance in the utilization of Federal resources, and added flexibility to the scheduling of exercises for the licensee and State and local agencies. The exercise will be conducted in a timeframe that is within generally accepted policy. The staff, having considered the schedule and resource issues within FEMA and the NRC, and the proposed licensee compensatory measures, believes that the exemption request meets the special circumstances of 10 CFR 50.12(a)(2)(v) and should be granted.

IV

The Commission has determined that, pursuant to 10 CFR Part 50, Appendix E, this exemption is authorized by law, will not endanger life or property or the common defense and security, and is otherwise in the public interest. Further, the Commission has determined, pursuant to 10 CFR 50.12(a), that special circumstances of 10 CFR 50.12(a)(2)(ii) and 10 CFR 50.12(a)(2)(v) are applicable in that application of the regulation is not necessary to achieve the underlying purpose of the rule, and the exemption would provide only temporary relief from the applicable regulation and the licensee has made good faith efforts to comply with the regulation. Therefore, the Commission hereby grants the exemption from Section IV.F.2.c of Appendix E to 10 CFR Part 50.

Pursuant to 10 CFR 51.32, the Commission has determined that the granting of this exemption will have no significant impact on the quality of the human environment (65 FR 16972).

This exemption is effective upon issuance.

Dated at Rockville, Maryland, this 30th day of March 2000.
For the Nuclear Regulatory Commission.
John A. Zwolinski,
Director, Division of Licensing Project Management, Office of Nuclear Reactor Regulation.

[FR Doc. 00-8336 Filed 4-4-00; 8:45 am]

BILLING CODE 7590-01-P